DEPARTMENT OF ENERGY

10 CFR Part 430

[Docket Number EERE-2012-BT-STD-0027]

RIN 1904-AC81

Energy Conservation Program: Energy Conservation Standards for Dehumidifiers

AGENCY: Office of Energy Efficiency and Renewable Energy, Department of Energy.

ACTION: Final rule; technical correction.

SUMMARY: The U.S. Department of Energy (DOE) published a final rule in the Federal Register on June 13, 2016, adopting more-stringent energy conservation standards for dehumidifiers. This correction addresses an error in the final rule by clarifying in Title 10 of the Code of Federal Regulations (CFR), section 430.32 the energy efficiency metric used to determine compliance with the amended standards. Neither the error nor the correction in this document affect the substance of the energy conservation standards rulemaking or any of the conclusions reached in support of the final rule. In addition, DOE removed 10 CFR 430.32(v)(1) because the requirement is now obsolete.

DATES: This correction is effective August 22, 2016.

FOR FURTHER INFORMATION CONTACT: Mr. Bryan Berringer, U.S. Department of Energy, Office of Energy Efficiency and Renewable Energy, Building Technologies Office, EE-5B, 1000 Independence Avenue SW., Washington, DC 20585-0121. Telephone: (202) 586-0371. Email: Bryan.Berringer@ee.doe.gov.

Ms. Elizabeth Kohl, U.S. Department of Energy, Office of the General Counsel, GC-33, 1000 Independence Avenue SW., Washington, DC 20585-0121. Telephone: (202) 586-7796. Email: Elizabeth.Kohl@hq.doe.gov.

SUPPLEMENTARY INFORMATION: On June 13, 2016, DOE published a final rule (the “June 2016 final rule”) to adopt more-stringent energy conservation standards for dehumidifiers. 81 FR 38337. In the June 2016 final rule, DOE amended 10 CFR 430.32(v) to add paragraph (3) that incorrectly specified the energy efficiency metric for the amended standards. This final rule correction revises 10 CFR 430.32(v)(3) to specify that the metric is “integrated energy factor” instead of “integrated energy efficiency factor” for dehumidifier energy conservation standards that apply to portable and whole-home dehumidifiers manufactured in, or imported into, the United States on and after June 13, 2019. This energy efficiency metric is consistent with the DOE test procedure final rule to establish a new appendix X1 published on July 31, 2015. 80 FR 45801. DOE also removed 10 CFR 430.32(v)(1) because the requirement is obsolete.

Procedural Issues and Regulatory Review

The regulatory reviews conducted for this rulemaking are those set forth in the June 2016 final rule that originally codified amendments to DOE's energy conservation standards for dehumidifiers. 81 FR 38337. The amendments from that final rule became effective August 12, 2016. Id.

Pursuant to the Administrative Procedure Act, 5 U.S.C. 553(b), DOE has determined that notice and prior opportunity for comment on this rule are unnecessary and contrary to the public interest. This final rule correction revises 10 CFR 430.32(v)(3) to specify that the metric is “integrated energy factor” instead of “integrated energy efficiency factor” for dehumidifier energy conservation standards and removes 10 CFR 430.32(v)(1) because the requirement is obsolete. Neither the errors nor the corrections in this document affect the substance of the rulemaking or any of the conclusions reached in support of the final rule. For these reasons, DOE has also determined that there is good cause to waive the 30-day delay in effective date.

List of Subjects in 10 CFR Part 430

Administrative practice and procedure, Confidential business information, Energy conservation, Household appliances, Imports, Intergovernmental relations, Reporting and recordkeeping requirements, and Small businesses.

Issued in Washington, DC, on August 16, 2016.
Kathleen Hogan,
Deputy Assistant Secretary for Energy Efficiency, Energy Efficiency and Renewable Energy.

For the reasons set forth in the preamble, part 430 of chapter II, subchapter D, of title 10 of the Code of Federal Regulations is corrected by making the following correcting amendments:

PART 430—ENERGY CONSERVATION PROGRAM FOR CONSUMER PRODUCTS

1. The authority citation for part 430 continues to read as follows:

Authority: 42 U.S.C. 6291-6309; 28 U.S.C. 2461 note.

2. Section 430.32 is amended by:

a. Removing paragraph (v)(1),

b. Redesignating paragraph (v)(2) as (v)(1) and paragraph (v)(3) as (v)(2); and

c. Revising newly designated paragraph (v)(2) to read as follows:

§ 430.32 Energy and water conservation standards and their compliance dates.

* * * * *

(v) * * *

(2) Dehumidifiers manufactured on or after June 13, 2019, shall have an integrated energy factor that meets or exceeds the following values:

Portable dehumidifier product capacity (pints/day) | Minimum integrated energy factor (liters/kWh)
25.00 or less | 1.30
25.01-50.00 | 1.60
50.01 or more | 2.80
Whole-home dehumidifier product case volume (cubic feet) |
8.0 or less | 1.77
More than 8.0 | 2.41

* * * * *

[FR Doc. 2016-19969 Filed 8-19-16; 8:45 am]

BILLING CODE 6450-01-P